GENERAL SERVICES ADMINISTRATION

President's Homeland Security Advisory Council

AGENCY: Office of Governmentwide Policy, General Services Administration.

ACTION: Notice of Federal Advisory Committee meeting.

SUMMARY: The President's Homeland Security Advisory Council (PHSAC or Council) will meet in partially closed session on Wednesday, June 12, 2002, in Washington, DC. The PHSAC will meet for the purposes of: (1) Welcoming and introducing the members of the Council; (2) reinforcing the necessity and urgency of developing and coordinating the implementation of a comprehensive national strategy on homeland security; (3) holding roundtable discussions with and among Council members; (4) receiving briefings by senior government officials on the state of homeland security; and (5) discussing and reviewing the draft national strategy for homeland security. The open portion of the meeting, for purposes (1) and (2) above and certain discussions of purposes (3) through (5) above, will be held in the Indian Treaty Room of the Eisenhower Executive Office Building, 725 Seventeenth Street, NW., from 9 to 11:10 a.m. The closed portion of the meeting, for certain discussions of purposes (3) through (5) above, will be held in the White House, 1600 Pennsylvania Ave., NW., from 11:30 a.m. to 3 p.m.

Objectives

The President's Homeland Security Advisory Council was established by Executive Order 13260 (67 FR 13241, March 21, 2002). The objectives of the PHSAC are to provide advice and recommendations to the President of the United States through the Assistant to the President for Homeland Security (Assistant), on matters relating to homeland security.

Due to critical mission and schedule requirements, there is insufficient time to provide the full 15 calendar days notice in the Federal Register prior to advisory committee meetings, pursuant to the final rule on Federal Advisory Committee Management codified at 41 CFR 102-3.150. Moreover, in accordance with Section 10(d) of the Federal Advisory Committee Act, Public Law 92-463, as amended (5 U.S.C. App.), it has been determined that this PHSAC meeting concerns matters sensitive to homeland security within the meaning of 5 U.S.C. 552b(c)(7) and (9)(B) and that, accordingly, the meeting will be partially closed to the public. In addition, due to the security requirements of the Eisenhower Executive Office Building, any members of the public who wish to attend this meeting of the President's Homeland Security Advisory Council must provide their name, social security number, and date of birth no later than 5:00 p.m. EDT, Friday, June 7, 2002, to Mr. Fred Butterfield, General Services Administration, phone: (202) 273-3566, or e-mail: fred.butterfield@gsa.gov. Photo identification will be required for entry into the building. Persons with disabilities who require assistance should indicate this in their message. Due to limited availability of seating, members of the public will be admitted on a first-come, first-served basis. Furthermore, members of the public who wish to file a written statement with the PHSAC may do so either in person or send it to Fred Butterfield via the e-mail address provided immediately above or at the following mailing address: General Services Administration (GSA/MC, Room G230), 1800 F St., NW., Washington, DC 20405.

Dated: May 28, 2002.
James L. Dean,
Director, Committee Management Secretariat, Office of Governmentwide Policy, General Services Administration.

[FR Doc. 02-13857 Filed 5-30-02; 8:45 am]

BILLING CODE 6820-34-P